DEPARTMENT OF ENERGY

Federal Energy Regulatory Commission

[Docket No. EC01-111-000, et al.]

Southwestern Public Service Company, et al., Electric Rate and Corporate Regulation Filings

June 8, 2001.

Take notice that the following filings have been made with the Commission:

1. Southwestern Public Service Company

[Docket No. EC01-111-000]

Take notice that on May 30, 2001, Southwestern Public Service Company, a wholly-owned utility operating company subsidiary of Xcel Energy Inc., filed with the Federal Energy Regulatory Commission (Commission) an application pursuant to Section 203 of the Federal Power Act for authorization to transfer operational control of jurisdictional transmission facilities to the Southwest Power Pool Regional Transmission Operator.

Comment date: June 20, 2001, in accordance with Standard Paragraph E at the end of this notice.

2. Cleco Power LLC

[Docket No. EC01-113-000]

Take notice that on June 1, 2001, Cleco Power LLC (Cleco) filed an application pursuant to Section 203 of the Federal Power Act, 16 U.S.C. 824b and Part 33 of the Commission's regulations, 18 CFR Part 33. Cleco requests authorization to transfer operational control over certain of its transmission facilities to the proposed Southwest Power Pool Regional Transmission Organization (SPP RTO) and provides a list of agreements that it proposes to be grandfathered from the application of the SPP RTO tariff.

Comment date: June 22, 2001, in accordance with Standard Paragraph E at the end of this notice.

3. Curtis/Palmer Hydroelectric Company, L.P. and TransCanada (Curtis/Palmer) Ltd., TransCanada (Hydroelectric) USA Ltd.

[Docket No. EC01-112-000]

Take notice that on May 31, 2001, Curtis/Palmer Hydroelectric Company, L.P. (Curtis/Palmer), TransCanada (Curtis/Palmer) Ltd. and TransCanada (Hydroelectric) USA Ltd. filed with the Federal Energy Regulatory Commission an application pursuant to Section 203 of the Federal Power Act for authorization of the transfer of International Paper Company's 100% partnership interests (held in equal parts by wholly-owned subsidiaries, Saratoga Development Corporation and IP-Hydro L.L.C.) in the Curtis/Palmer Hydroelectric Company, L.P. to TransCanada (Curtis/Palmer) Ltd. and TransCanada (Hydroelectric) USA Ltd. (TransCanada Subsidiaries). The TransCanada Subsidiaries will pay cash for the partnership interests.

Curtis/Palmer owns and operates a 58.8 MW hydroelectric facility located in Saratoga and Warren counties in New York. Applicants request confidential treatment for the documents contained in Exhibits C-2 and I.

Comment date: June 21, 2001, in accordance with Standard Paragraph E at the end of this notice.

3. Thunderbird Generation, LLC

[Docket No. EG01-224-000]

Take notice that on June 5, 2001, Thunderbird Generation, LLC (Thunderbird), a limited liability company with its principal place of business at Thunderbird Generation, LLC, c/o Newport Generation, Inc., 100 Bayview Circle, Suite 500, Newport Beach, California 92660, filed with the Federal Energy Regulatory Commission (Commission) an application for determination of exempt wholesale generator status pursuant to Part 365 of the Commission's regulations.

Thunderbird states that it will be engaged directly and exclusively in the business of owning a 900 MW natural gas fired, combined cycle electric generating facility and related assets to be located on an approximately 110 acre site near the town of Pink, Oklahoma in the southeast corner of Cleveland County, Oklahoma. Thunderbird will sell its capacity exclusively at wholesale.

Comment date: June 29, 2001, in accordance with Standard Paragraph E at the end of this notice. The Commission will limit its consideration of comments to those that concern the adequacy or accuracy of the application.

4. GWF Energy LLC

[Docket No. EG01-225-000]

Take notice that on June 5, 2001, GWF Energy LLC (the Applicant) whose address is 4300 Railroad Avenue, Pittsburgh, California 94565, filed with the Federal Energy Regulatory Commission an application for determination of exempt wholesale generator status pursuant to Part 365 of the Commission's regulations.

The Applicant states that it will be engaged directly and exclusively in the business of owning and/or operating three electric generating facilities to be located in Kings and San Joaquin Counties, California and selling electric energy at wholesale. The Applicant requests a determination that the Applicant is an exempt wholesale generator under Section 32(a)(1) of the Public Utility Holding Company Act of 1935.

Comment date: June 29, 2001, in accordance with Standard Paragraph E at the end of this notice. The Commission will limit its consideration of comments to those that concern the adequacy or accuracy of the application.

5. Sunrise Power Company, LLC

[Docket No. EG01-226-000]

Take notice that on June 4, 2001, Sunrise Power Company, LLC filed with the Federal Energy Regulatory Commission an application for determination of exempt wholesale generator status pursuant to section 32(a)(1) of the Public Utility Holding Company Act of 1935 (PUHCA). The applicant is a limited liability company organized under the laws of the State of Delaware that is engaged directly and exclusively in developing, owning, and operating facilities which will be eligible facilities in Kern County, California. The Facilities will consist of a 320 MW gas-fired simple-cycle peaking generating facility, which will later be converted to a 560 MW combined-cycle generating facility, and equipment necessary to interconnect the Facilities to the transmission grid.

Comment date: June 29, 2001, in accordance with Standard Paragraph E at the end of this notice. The Commission will limit its consideration of comments to those that concern the adequacy or accuracy of the application.

6. ETHAN Power, LLC

[Docket No. ER01-2221-000]

Take notice that on June 4, 2001, ETHAN Power, LLC (ETHAN) petitioned the Commission for acceptance of ETHAN Rate Schedule FERC No. 1; the granting of certain blanket approvals, including the authority to sell electricity at market-based rates; and the waiver of certain Commission regulations.

ETHAN proposed to act as a power marketer, generating electricity, and selling it to wholesale customers. ETHAN may also engage in other nonjurisdictional activities to facilitate efficient trade in the bulk power market, such as facilitating the purchase and sale of wholesale energy without taking title to the electricity (brokering), and arranging services in related areas such as transmission and fuel supplies. All transactions between ETHAN and its purchasers and sellers will be at rates negotiated between the parties to the transaction.

Comment date: June 25, 2001, in accordance with Standard Paragraph E at the end of this notice.

7. Duke Energy Corporation

[Docket No. ER01-2222-000]

Take notice that on June 4, 2001, Duke Energy Corporation (Duke) tendered for filing a Service Agreement with Carolina Power & Light Company for Firm Transmission Service under Duke's Open Access Transmission Tariff.

Duke requests that the proposed Service Agreement be permitted to become effective on May 7, 2001.

Duke states that this filing is in accordance with Part 35 of the Commission's Regulations and a copy has been served on the North Carolina Utilities Commission.

Comment date: June 25, 2001, in accordance with Standard Paragraph E at the end of this notice.

8. Nevada Power Company

[Docket No. ER01-2225-000]

Take notice that on June 5, 2001, Nevada Power Company (Nevada Power) filed, pursuant to Section 205 of the Federal Power Act, an executed Interconnection and Operation Agreement between Nevada Power and Las Vegas Cogeneration II, LLC.

Nevada Power requests the effective date for the Agreement to be August 4, 2001.

Comment date: June 26, 2001, in accordance with Standard Paragraph E at the end of this notice.

9. California Independent System Operator Corporation

[Docket No. ER01-2226-000]

Take notice that on June 5, 2001, the California Independent System Operator Corporation (ISO), tendered for filing a Participating Generator Agreement between the ISO and NEO California Power LLC for acceptance by the Commission.

The ISO states that this filing has been served on NEO California Power LLC and the California Public Utilities Commission.

The ISO is requesting waiver of the 60-day notice requirement to allow the Participating Generator Agreement to be made effective May 23, 2001.

Comment date: June 26, 2001, in accordance with Standard Paragraph E at the end of this notice.

10. The California Independent System Operator Corporation

[Docket No. ER01-2227-000]

Take notice that on June 5, 2001, the California Independent System Operator Corporation (ISO) tendered for filing a Meter Service Agreement for ISO Metered Entities between the ISO and NEO California Power LLC for acceptance by the Commission.

The ISO states that this filing has been served on NEO California Power LLC and the California Public Utilities Commission.

The ISO is requesting an effective date of May 23, 2001 for the Meter Service Agreement for Metered Entities.

Comment date: June 26, 2001, in accordance with Standard Paragraph E at the end of this notice.

11. California Independent System Operator Corporation

[Docket No. ER01-2228-000]

Take notice that on June 5, 2001, the California Independent System Operator Corporation, (ISO) on June 5, 2001, tendered for filing a Meter Service Agreement for ISO Metered Entities between the ISO and E. F. Oxnard, Inc. for acceptance by the Commission.

The ISO states that this filing has been served on E. F. Oxnard, Inc. and the California Public Utilities Commission.

The ISO is requesting waiver of the 60-day notice requirement to allow the Meter Service Agreement for ISO Metered Entities to be made effective May 23, 2001.

Comment date: June 26, 2001, in accordance with Standard Paragraph E at the end of this notice.

12. California Independent System Operator Corporation

[Docket No. ER01-2229-000]

Take notice that the on June 5, 2001, California Independent System Operator Corporation, (ISO) , tendered for filing a Participating Generator Agreement between the ISO and E. F. Oxnard, Inc. for acceptance by the Commission.

The ISO states that this filing has been served on E. F. Oxnard, Inc. and the California Public Utilities Commission.

The ISO is requesting waiver of the 60-day notice requirement to allow the Participating Generator Agreement to be made effective May 23, 2001.

Comment date: June 26, 2001, in accordance with Standard Paragraph E at the end of this notice.

13. Monroe Power Company

[Docket No. ER01-2231-000]

Take notice that on June 5, 2001, Monroe Power Company (MPC) tendered for filing an executed Service Agreement with Dynegy Power Marketing, Inc. under the provisions of MPC's Market-Based Rates Tariff, FERC Electric Tariff No. 1.

MPC is requesting an effective date of June 1, 2001 for this agreement.

Copies of the filing were served upon the North Carolina Utilities Commission, the South Carolina Public Service Commission and the Georgia Public Service Commission.

Comment date: June 26, 2001, in accordance with Standard Paragraph E at the end of this notice.

14. Otter Tail Power Company

[Docket No. ER01-2232-000]

Take notice that on June 5, 2001, Otter Tail Power Company (Otter Tail), tendered for filing a Service Agreement between Otter Tail and Lighthouse Energy Trading, Inc., (Lighthouse). The Service Agreement allows Otter Tail to sell capacity and/or energy at market-based rates under its Wholesale Tariff.

Comment date: June 26, 2001, in accordance with Standard Paragraph E at the end of this notice.

15. GWF Energy LLC

[Docket No. ER01-2233-000]

Take notice that on June 5, 2001, GWF Energy LLC (GWF) tendered for filing an application for waivers and blanket approvals under various regulations of the Commission and for an order accepting its FERC Electric Tariff, Original Volume No. 1. GWF proposes that its FERC Electric Tariff, Original Volume No. 1 become effective upon commencement of service of its generation projects potentially totaling 430 MW located in Northern California (the GWF Facilities). The GWF Facilities are expected to be commercially operable in phases with the Hanford Project coming on line in September 2001, the Henrietta Project in May 2002, and the first unit of the Tracy Project in August/September 2002 and an additional unit in May 2003.

GWF intends to sell energy, capacity, and certain ancillary services from the GWF Facilities in the wholesale power market at market-based rates, and on such terms and conditions to be mutually agreed to with the purchasing party. GWF also seeks authority to reassign transmission capacity.

Comment date: June 26, 2001, in accordance with Standard Paragraph E at the end of this notice.

16. Decatur Energy Center, LLC Solutia, Inc.

[Docket No. QF01-103-000]

Take notice that on June 5, 2001, Decatur Energy Center, LLC, 700 Milam St., Suite 800, Houston, Texas 77002 and Solutia, Inc., 575 Merryville Centre Drive, P.O. Box 66760, St. Louis, Missouri 66136 (Applicants) filed with the Federal Energy Regulatory Commission an application for certification of a facility as a qualifying cogeneration facility pursuant to § 292.207(b) of the Commission's regulations. No determination has been made that the submittal constitutes a complete filing.

The facility is a natural gas-fired 787 MW (net) cogeneration facility under construction adjacent to the Solutia Plant in Decatur, Alabama. The principal components of the facility include three combustion turbine generators, three heat recovery steam generators and one steam turbine generator. The facility will provide process steam to Solutia for the manufacturing of acrylic fibers and intermediate chemicals for the manufacturing of nylon fibers. Solutia will also lease an undivided interest in the electric generating facility to meet its power requirements at the Plant. The facility will be interconnected with the Tennessee Valley Authority (TVA) and will sell power to TVA and other wholesale customers.

Comment date: July 5, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-15098 Filed 6-14-01; 8:45 am]

BILLING CODE 6717-01-U